DEPARTMENT OF LABOR

Employment and Training Administration

[TA-W-53,702]

Snap-On Tools Manufacturing Company, Kenosha, WI; Notice of Negative Determination Regarding Application for Reconsideration

By application of March 5, 2004, International Association of Machinists, District Lodge 34 requested administrative reconsideration of the Department's negative determination regarding eligibility for workers and former workers of the subject firm to apply for Trade Adjustment Assistance (TAA). The denial notice was published in the Federal Register on March 12, 2004 (69 FR 11888).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Snap-On Tools Manufacturing Company, Kenosha, Wisconsin engaged in the production of hand tools, was denied because criteria I.C and II.B and the “contributed importantly” group eligibility requirement of Section 222 of the Trade Act of 1974, as amended, were not met. The “contributed importantly” test is generally demonstrated through a survey of the workers' firm's customers. The survey revealed an insignificant level of imports during the relevant period. The subject firm imported a negligible amount of hand tools during the relevant period.

The petitioner alleges that the company is currently in the process of purchasing a facility in China for the purpose of shifting some of the production from the subject facility.

A company official was contacted in regard to these allegations. The official stated that there never was a shift of hand tools production from Snap-On Tools Manufacturing Company, Kenosha, Wisconsin abroad and no plans exist to move any production from the subject facility to China.

The petitioner further alleges that Snap-on, Inc. is considering to discontinue the E-Line Plier line and replacing it with foreign made products, manufactured in Sweden or Germany and mentions Blue Point product, which was affected by the foreign trade.

The official stated that E-Line Pliers were never manufactured at the subject facility and that this line existed at another Snap-on Tools, Inc. facility in Mt. Carmel, Illinois. The official further stated that the company does import power tools which are branded as Blue Point, however, they are not like or directly competitive with products manufactured at Snap-On Tools Manufacturing Company, Kenosha, Wisconsin. The company has been outsourcing manufacturing of the adjustable wrenches and pliers from overseas vendors for many years, however, this sourcing, including Blue Point tools represents less than 2 percent of the overall production of Snap-on, Inc. and did not increase during the relevant time period.

Finally, the petitioner alleges that the subject firm lost a considerable amount of business to its competitor, a company which is “more price-competitive due to the use of overseas trade.”

A review of competitors is not relevant to an investigation concerning import impact on workers applying for trade adjustment assistance. As noted above, “contributed importantly” test is generally demonstrated through a survey of customers of the workers' firm to examine the direct import impact on a specific firm. No imports or very insignificant amount of imports of hand tools were evidenced during the survey of subject firm's customers during the original investigation.

Conclusion

After review of the application and investigative findings, I conclude that there has been no error or misinterpretation of the law or of the facts which would justify reconsideration of the Department of Labor's prior decisions. Accordingly, the application is denied.

Signed at Washington, DC, this 30th day of April 2004.
Elliott S. Kushner,
Certifying Officer, Division of Trade Adjustment Assistance.

[FR Doc. 04-10863 Filed 5-12-04; 8:45 am]

BILLING CODE 4510-30-P